DEPARTMENT OF ENERGY

Federal Energy Regulatory Commission

Combined Notice of Filings #2

Take notice that the Commission received the following electric rate filings:

Docket Numbers: ER12-2653-000.

Applicants: Public Service Company of Colorado.

Description: Public Service Company of Colorado submits tariff filing per 35.13(a)(2)(iii: 2012-9-19-PSCo-Lamar Rev Filing to be effective 11/1/2012.

Filed Date: 9/19/12.

Accession Number: 20120919-5042.

Comments Due: 5 p.m. ET 10/10/12.

Docket Numbers: ER12-2654-000.

Applicants: World Digital Innovations.

Description: World Digital Innovations submits tariff filing per 35.12: mbr_tar to be effective 9/21/2012.

Filed Date: 9/19/12.

Accession Number: 20120919-5043.

Comments Due: 5 p.m. ET 10/10/12.

Docket Numbers: ER12-2655-000.

Applicants: Public Service Company of Colorado.

Description: Public Service Company of Colorado submits tariff filing per 35.13(a)(2)(iii: 2012-9-19_NXPM-Limon EP 314 NOC to be effective 11/19/2012.

Filed Date: 9/19/12.

Accession Number: 20120919-5047.

Comments Due: 5 p.m. ET 10/10/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2012.
Nathaniel J. Davis, Sr.,
Deputy Secretary.

[FR Doc. 2012-25265 Filed 10-12-12; 8:45 am]

BILLING CODE 6717-01-P